FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Glotrans International, Inc., 11222 S. La Cienega Blvd., #606, Inglewood, CA 90304, Officer: Kyung Taek Park, President (Qualifying Individual).

Innerpoint, Corp., 550 E. Carson Plaza Drive, Suite 107, Carson, CA 90746, Officers: Jesse Noh, President (Qualifying Individual), Sung Ho Lee, Director.

ATEC Systems, Ltd., 650 S. North Lake Blvd., Suite 400, Altamante Springs, FL 32701, Officers: Michael L. Clements, Managing Director (Qualifying Individual), S. Thomas Clements, President.

Polamer Inc., 3094 N. Milwaukee Avenue, Chicago, IL 60618, Officer Walter K. Kotaba, President (Qualifying Individual).

Island Shipping & Delivery, 426 Marcus Garvey Blvd., Brooklyn, NY 11216, Bryan Skelly, Sole Proprietor.

The Ultimate Freight Management New York Inc., dba Major Consolidation Service Co., 538 Burnside Avenue, Inwood, NY 11096, Officer: Mandy Lee, Managing Director, (Qualifying Individual).

Non-Vessel Operating Common Carrier and Ocean Freight Forwarder Transportation Intermediary Applicants:

Avion Company, Inc. dba Novia Company, 18726 South Western Avenue, Suite 403, Gardena, CA 90248, Officers: Noi Burger, Exec. Vice President (Qualifying Individual), Massimo Giordano, President.

CTC Distributing, Ltd., 615 Blaze Blvd., Edinburg, TX 78539, Officers: Lorelei J. Smith, Customs & Regulatory Compliance (Qualifying Individual), Bruce Goldman, President.

Star Airfreight Co., Ltd., 149-35 177th Street, 21F, Jamaica, NY 11434, Officers: Anthony Chan, President (Qualifying Individual), Eddie Yau, Jr., Vice President.

Star Airfreight Co., Ltd., 8901 S. La Cienega Blvd., Suite 108, Inglewood, CA 90301, Officers: Anthony Chan, President (Qualifying Individual), Eddie Yau, Jr., Vice President.

Vivek Shipping Company, LLC, 106 Country Mill Lane, Stockbridge, GA 30281, Officers: Charles August Erkus, Secretary-Operations Manager (Qualifying Individual), Rakesh R. Patel, President.

Dated: May 7, 2004.
Karen V. Gregory,
Assistant Secretary.

[FR Doc. 04-10823 Filed 5-12-04; 8:45 am]

BILLING CODE 6730-01-P